DEPARTMENT OF AGRICULTURE

Forest Service

Monument Fire Recovery Project, Malheur National Forest, Grant County, OR

AGENCY: Forest Service, USDA.

ACTION: Notice of intent to prepare an environmental impact statement.

SUMMARY: The USDA Forest Service will prepare an environmental impact statement (EIS) on a proposal to assist the recovery of the area burned in 2002 by the Monument Fire. The EIS will include proposals to harvest fire-killed and fire-damaged trees, implement reforestation, and implement projects to alleviate the potential for future damage to riparian and aquatic resources. The 8,600-acre project area is located on the Prairie City Ranger District and is centered approximately 23 miles southeast of Prairie City, Oregon, within the Little Malheur and North Fork Malheur Watersheds. The agency gives notice of the full environmental analysis and decision making process that will occur on the proposal, so that interested and affected people may become aware of how they can participate in the process and contribute to the final decision.

DATES: Comments concerning the scope of the analysis must be received by April 30, 2003.

ADDRESSES: Send written comments to Ryan Falk, Acting District Ranger, Prairie City Ranger District, PO Box 337, Prairie City, Oregon 97869.

FOR FURTHER INFORMATION CONTACT: Rick Larson, Monument Fire Recovery Project Interdisciplinary Team Leader, Prairie City Ranger District, telephone (541) 820-3311, e-mail rllarson@fs.fed.us.

SUPPLEMENTARY INFORMATION: In July and August of 2002, the Monument Fire burned approximately 24,525 acres, of which 20,186 occur on the Malheur National Forest. The remainder of the fire includes approximately 3,711 acres of land administered by the Wallowa-Whitman National Forest, and 628 acres of private land. The 8,600-acre decision area for the Monument Fire Recovery Projects includes those portions of the Monument Fire that occurred within the Little Malheur and North Fork Malheur Watersheds on the Malheur National Forest.

Proposed Action. Approximately 4,800 acres of timber harvest is proposed: 3,500 acres of salvage only, 700 acres of salvage plus removal/thinning of some live trees to improve stand resiliency, and 600 acres of salvage in Riparian Conservation Habitat Areas (RHCAs) primarily to reduce standing fuel. Salvage harvest would include removal of trees killed or having high probability of dying as a result of the fire. These areas would be harvested using ground-based and helicopter logging techniques. Approximately 87 percent of the harvest area would be salvaged by helicopter. Following site preparation, approximately 4,200 acres would be planted with conifer seedlings. Due to snag density deficiencies, a Forest Plan amendment may be necessary for the implementation of the salvage proposals. The site-specific snag densities, based on local landscape and ecological conditions, may fall below the levels identified in the Forest Plan. In the fire area, appropriate stands (acres) will be designated to replace Dedicated Old Growth burned or no longer in suitable old-growth condition. Road activities associated with salvage and restoration include: approximately 0.4 miles of temporary road construction; approximately 17.3 miles of road decommissioning; 2.2 miles of skid trail restoration; and 7.0 miles of gated closures. The Little Malheur trailhead would be relocated approximately 2 miles below its present location.

Purpose and Need Action. The identified reasons why we propose and need this action now are: reduce levels of dead standing and down fuels that contribute to high severity fires within the natural return cycle for low-intensity/frequent-fire regime areas; capture the economic value of those trees that are surplus to other resource needs; improve timber stand resiliency to insects, disease, wildfire, and other disturbances; restore ecologically structural and compositional characteristics of upland vegetation; replace Dedicated Old Growth and Replacement Old Growth areas that burned and are no longer in suitable old-growth condition; re-vegetate fire-damaged riparian areas that have lost shade, bank stability, and the ability to filter overland erosion; and minimize the effects of runoff and precipitation that become concentrated flow when intercepted by road surfaces.

Possible Alternatives. A full reasonable range of alternatives will be considered, including a “no-action” alternative in which none of the activities proposed above would be implemented. Based on the preliminary issues gathered through scoping, the action alternatives could differ in: (1) The silvicultural and post-harvest treatments prescribed, (2) the amount and location of harvest, and (3) the amount and location of fuels reduction activity. Other alternatives to the proposed action could include: An alternative which does not require the construction of additional temporary roads and does not consider salvage removal from RHCAs; an alternative which emphasizes removal of dead timber in the size classes most likely to re-burn; and an alternative which considers various regeneration strategies, such as planting at relatively low stocking levels. Alternative development will be based, in part, on currently available science on snag and coarse woody debris-dependent species habitat. This could result in a proposal of a site-specific Forest Plan amendment to update standards and guidelines for these species.

Scoping Process. The scoping process will include: Identifying potential issues, identifying major issues to be analyzed in depth, eliminating non-significant issues or those previously covered by a relevant environmental analysis, considering additional alternatives based on themes which will be derived from issues recognized during scoping activities, and identifying potential environmental effects of this proposed action and alternatives (i.e. direct, indirect, and cumulative effects and connected actions). Public participation will be sought at several points during the analysis process. The public will be kept informed of the EIS process through the quarterly publication of the “Malheur National Forest's Schedule of Proposed Actions” and letters to agencies, organizations, and individuals who have previously indicated their interest in such activities.

Issues. Preliminary issues identified include: Maintenance of soil and water quality; retention of snags; connectivity of wildlife habitat and big game cover; protection of fish habitat; deterioration of sawtimber; reduction of fuels; advancement of project economic viability; and maintenance of community stability.

Comments. Public comments about this proposal are requested in order to assist in scoping issues properly, determining how to best manage the resources, and analyzing environmental effects fully. Comments received to this notice, including names and addresses of those who comment, will be considered part of the public record on this proposed action, and will be available for public inspection. Comments submitted anonymously will be accepted and considered; however, those who submit anonymous comments will not have standing to appeal the subsequent decision under 36 CFR parts 215. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality. Where the request is denied, the agency will return the submission and notify the requester that the comments may be resubmitted, with or without name and address, within a specified number of days.

The draft EIS is expected to be filed with the Environmental Protection Agency (EPA), and made available for public review by June 2003. The comment period on the draft EIS will be 45 days from the date the EPA publishes the notice of availability in the Federal Register. The final EIS is scheduled to be available September 2003.

The Forest Service believes, at this early stage, it is important to give reviewers notice of several court rulings related to public participation in the environmental review process. First, reviewers of the draft EIS must structure their participation in the environmental review of the proposal, so that it is meaningful and alerts an agency to the reviewer's position and contentions. Vermont Yankee Nuclear Power Corp. v. NRDC, 435 U.S. 519, 553 (1978). Also environmental objections that could be raised at the draft EIS stage, but that are not raised until after the completion of the final EIS, may be waived or dismissed by the courts. City of Angoon v. Hodel, 803 F.2d 1016, 1022 (9th Cir. 1986) and Wisconsin Inc. v. Harris, 490 F.Supp. 1334, 1338 (E.D. Wis. 1980). Because of these court rulings, it is very important that those interested in this proposed action, participate by the close of the 45-day comment period, so that substantive comments and objectives are made available to the Forest Service at a time when it can meaningfully consider them and respond to them in the final EIS.

To assist the Forest Service in identifying and considering issues and concerns on the proposed action, comments on the draft environmental impact statement should be as specific as possible. It is also helpful if comments refer to specific pages or chapters of the draft statement. Comments may also address the adequacy of the draft environmental impact statement, or the merits of the alternatives formulated and discussed in the statement. Reviewers may wish to refer to the Council on Environmental Quality Regulations for implementing the procedural provisions of the National Environmental Policy Act, at 40 CFR 1503.3, in addressing these points.

The Forest Service is the lead agency. The Responsible Official is the Forest Supervisor, Malheur National Forest. The Responsible Official will decide which, if any, of the proposed projects will be implemented. The Responsible Official may also decide on site-specific Forest Plan amendments regarding standards and guidelines for snag and coarse woody debris, as well as big game habitat, if warranted by the analysis of those components in light of recent science. The Responsible Official will document the Monument Fire Recovery Project decision and reasons for the decision, in the Record of Decision. That decision will be subject to Forest Service Appeal Regulations (36 CFR part 215).

Dated: March 14, 2003.
Roger Williams,
Forest Supervisor.

[FR Doc. 03-6901 Filed 3-21-03; 8:45 am]

BILLING CODE 3410-11-M